DEPARTMENT OF THE INTERIOR

Bureau of Land Management

[LLMT926000-10-L19100000-BJ0000-LRCM08RS3123]

Notice of Filing of Plat of Survey; Montana

AGENCY: Bureau of Land Management, Interior.

ACTION: Notice of filing of plats of survey.

SUMMARY: The Bureau of Land Management (BLM) will file the plat of survey of the lands described below in the BLM Montana State Office, Billings, Montana, thirty (30) days from the date of publication in the Federal Register.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Superintendent, Fort Peck Agency, through the Rocky Mountain Regional Director, Bureau of Indian Affairs, and was necessary to determine boundaries of trust or tribal interest lands.

The lands we surveyed are:

Principal Meridian, Montana

T. 27 N., R. 48 E.

The plat, in 1 sheet, representing the dependent resurvey of a portion of the subdivisional lines, the adjusted original meanders of the former left bank of the Missouri River, downstream, through sections 20 and 29, the adjusted 1994 meanders of the former left bank of the Missouri River, downstream, through section 20, a certain division of accretion line in section 20, and the survey of the meanders of the present left bank of the Missouri River, downstream, through a portion of section 20 and through section 29, the meanders of the left bank of a relicted channel of the Missouri River, the medial line of a relicted channel of the Missouri River, certain partition lines and an island (Tract 37), Township 27 North, Range 48 East, Principal Meridian, Montana, was accepted March 31, 2010.

We will place a copy of the plat, in 1 sheet, and related field notes we described in the open files. They will be available to the public as a matter of information. If the BLM receives a protest against this survey, as shown on this plat, in 1 sheet, prior to the date of the official filing, we will stay the filing pending our consideration of the protest. We will not officially file this plat, in 1 sheet, until the day after we have accepted or dismissed all protests and they have become final, including decisions or appeals.

Authority: 43 U.S.C. Chap. 3.

Dated: April 12, 2010.
Michael T. Birtles,
Chief Cadastral Surveyor, Division of Resources.

[FR Doc. 2010-9088 Filed 4-19-10; 8:45 am]

BILLING CODE 4310-DN-P